NATIONAL AERONAUTICS AND SPACE ADMINISTRATION

[Notice 02-092]

NASA Advisory Council, Aerospace Technology Advisory Committee, Aviation Safety Reporting System Subcommittee; Meeting

AGENCY: National Aeronautics and Space Administration (NASA).

ACTION: Notice of meeting.

SUMMARY: In accordance with the Federal Advisory Committee Act, Public Law 92-463, as amended, the National Aeronautics and Space Administration announces a NASA Advisory (NAC) Council, Aerospace Technology Advisory Committee (ATAC), Aviation Safety Reporting System Subcommittee meeting (ASRSS).

DATES: Wednesday, September 25, 2002, 9 a.m. to 5 p.m.

ADDRESSES: General Aviation Manufacturers Association, 1400 K Street NW., Suite 801, Washington, DC 20005.

FOR FURTHER INFORMATION CONTACT: Ms. Linda Connell, National Aeronautics and Space Administration, Ames Research Center, Moffett Field, CA 94035, 650/960-6059.

SUPPLEMENTARY INFORMATION: The meeting will be open to the public up to the seating capacity of the room. Agenda topics for the meeting are as follows:

• Report on Aviation Safety Reporting System

• Future Planning for ASRS

It is imperative that the meeting be held on these dates to accommodate the scheduling priorities of the key participants. Visitors will be requested to sign a visitors register.

Dated: July 22, 2002.
Sylvia K. Kraemer,
Advisory Committee Management Officer, National Aeronautics and Space Administration.

[FR Doc. 02-19015 Filed 7-25-02; 8:45 am]

BILLING CODE 7510-01-P